OFFICE OF NATIONAL DRUG CONTROL POLICY

Meeting of the Drug Control Research, Data, and Evaluation Committee

AGENCY: Office of National Drug Control Policy.

ACTION: Notice of meeting.

SUMMARY: ONDCP will convene a meeting of the Drug Control Research, Data, and Evaluation Advisory Committee on January 17-18, 2002, at the White House Conference Center located at 726 Jackson Place, NW., Washington, DC. The meeting will begin promptly each day at 9 am and adjourn at 4 pm. The agenda will include general discussion and briefs on national drug use indicators and other federal drug control initiatives including, but not limited to the following: (1) Interagency Oxycontin Work Group Progress Report on an Early Warning System for Pharmaceutical Diversion Abuse; (2) a Redesign Proposal for the Drug Abuse Warning Network (DAWN); (3) ONDCP's Anti-Drug Media Campaign Evaluation; (4) 2001 National Household Survey on Drug Abuse State Estimates of Treatment Need and Drug Use Prevalence; (5) The RAMONA Project (Random Access Monitoring of Narcotics Addicts); (6) HHS's Report on Closing the Drug Abuse Treatment Gap: A Report to the President of the U.S.; (7) Updates on Drug Free Communities Grant Program; and (8) Activities related to: prevention, families, schools, and workplaces. There will be an opportunity for public comment from 11:30 am to 12 Noon on Thursday, January 17, 2002.

DATES: January 17-18, 2002, 9 am to 4:00 pm. Opportunity for public comment from 11:30 am to 12:00 noon on Thursday, January 17, 2002.

ADDRESSES: White House Conference Center, 726 Jackson Place, NW, Washington, DC.

FOR FURTHER INFORMATION CONTACT: Linda V. Priebe, Assistant General Counsel, Office of National Drug Control Policy, Washington, DC (202) 395-6622.

Dated: December 11, 2001.
Linda V. Priebe,
Assistant General Counsel.

[FR Doc. 01-31055 Filed 12-17-01; 8:45 am]

BILLING CODE 3180-02-P